DEPARTMENT OF EDUCATION

[CFDA No.84.938H]

Fund for the Improvement of Postsecondary Education; New Hurricane Education Recovery Awards

AGENCY: Office of Postsecondary Education, Department of Education.

ACTION: Notice reopening the New Hurricane Education Recovery Awards fiscal year (FY) 2007 competition.

SUMMARY: On July 16, 2007, we published in the Federal Register (72 FR 38827) a notice inviting applications for the New Hurricane Education Recovery Awards for FY 2007 competition. That notice established an August 17, 2007 deadline date for eligible applicants to apply for this funding. Only applicants who timely submitted a pre-application and received an e-mail from the Department with the applicant's calculated allotment for an award were eligible to submit a full application by the August 17, 2007 deadline.

In order to afford as many eligible applicants who timely submitted pre-applications as possible an opportunity to receive funding, we are reopening the New Hurricane Education Recovery Awards FY 2007 competition to eligible applicants who timely submitted a pre-application and received an e-mail from the Department with the applicant's calculated allotment for an award. Accordingly, the DATES section is updated as follows.

DATES: Applications Available: August 27, 2007. Deadline for Transmittal of Applications: August 28, 2007.

Note: Applications for grants under the Hurricane Education Recovery Awards must be submitted electronically using the Governmentwide Grants.gov Apply site at http://www.grants.gov. For information about how to submit your application electronically, please refer to Electronic Submission of Applications in the July 16, 2007 notice (72 FR 38829-38830). We encourage eligible applicants to submit their applications as soon as possible to avoid any problems with filing electronic applications on the deadline date.

FOR FURTHER INFORMATION CONTACT: Ms. Rosemary Wolfe, Fund for the Improvement of Postsecondary Education, U.S. Department of Education, 1990 K Street, NW., 6th Floor, Washington, DC 20006-8544. Telephone: (202) 502-7516 or via Internet: HERA2@ed.gov or Rosemary.Wolfe@ed.gov.

If you use a telecommunications device for the deaf (TDD), you may call the Federal Relay Service (FRS) at 1-800-877-8339. Individuals with disabilities may obtain this notice in an alternative format (e.g., Braille, large print, audiotape, or computer diskette) on request to the contact person listed in this section.

Electronic Access to This Document: You may view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 1138-1138d.

Dated: August 23, 2007.
Diane Auer Jones,
Assistant Secretary for Postsecondary Education.

[FR Doc. E7-17019 Filed 8-24-07; 8:45 am]

BILLING CODE 4000-01-P